DEPARTMENT OF AGRICULTURE

Forest Service

Plan Revision for Shoshone National Forest, WY

AGENCY: Forest Service, USDA.

ACTION: Notice of adjustment for resuming the land management plan revision process.

SUMMARY: The USDA Forest Service is resuming preparation of the Shoshone National Forest revised land management plan as directed by the National Forest Management Act. Preparation of the revised plan was halted when the 2005 Forest Service planning rule was enjoined. A new planning rule (36 CFR part 219) was implemented on April 21 2008 allowing the planning process to be resumed. This notice resumes the plan revision process under the new planning rule.

DATES: Resumption is effective upon publication of this notice in the Federal Register.

FOR FURTHER INFORMATION CONTACT: Bryan Armel, Planning Staff Officer, Shoshone National Forest, 808 Meadow Lane Avenue, Cody, Wyoming, 82414, telephone 307.578.5134, or barmel@fs.fed.us. Information on this revision is also available at the Shoshone National Forest Web site at http://www.fs.fed.us/r2/shoshone/projects/planning/revision/revision_index.shtml.

SUPPLEMENTARY INFORMATION: Notification of initiation of the plan revision process for the 1986 Shoshone National Forest Land and Resource Management Plan was provided in the Federal Register on September 20, 2005 (Federal Register Vol. 70, No. 181). The plan revision was initiated under the planning procedures contained in the 2005 Forest Service planning rule (36 CFR part 219 (2005)). On March 30, 2007, the federal district court for the Northern District of California enjoined the Forest Service from implementing and using the 2005 planning rule until the agency provided notice and comment and conducted an assessment of the rule's effects on the environment and completed consultation under the Endangered Species Act. Revision of the Shoshone National Forest Land and Resource Management Plan under the (36 CFR part 219 (2005)) rule was suspended in response to the injunction. On April 21, 2008 the Forest Service adopted a new planning rule. This rule (36 CFR part 219 (2008)) was adopted following completion of an environmental impact statement and consultation under the Endangered Species Act. This new planning rule explicitly allows the resumption of plan revisions started under the previous rule (36 CFR part 219 (2005)) based on a finding that the revision process conforms to the new planning rule (36 CFR 219.14(b)(3)(ii)).

From 2005 until 2007, the Shoshone National Forest prepared draft documents including an ecosystem sustainability analysis, comprehensive evaluation report, and draft plan components. The development and content of those documents and components are consistent with the 2008 planning rule. Beginning in May 2005 and prior to injunction of the 2005 planning rule, the Shoshone National Forest conducted public and cooperator meetings in five local communities, including approximately 52 public meetings, 13 Government Cooperators Work Group meetings, 2 field trips, and 1 revision fair. Draft documents, reports, and assessments were made available to the public for informal review and comment throughout the process. Public collaboration processes that occurred are consistent with the 2008 planning rule. Results from collaboration will be used as the revision process resumes. The remainder of the revision process will be conducted in accordance with all Forest Service directives applicable to the 2008 planning rule.

Based on the discussions above, I find that the planning actions taken prior to April 21, 2008 conform to the planning process of the 2008 planning rule and for that reason the plan revision process does not need to be restarted. The Shoshone National Forest is resuming its plan revision process by scheduling public meetings to explain how the Shoshone's revision process will adjust to the 2008 Planning Rule, distribute pre-release versions of the draft proposed plan, and present a timeline for the remainder of the revision process.

Authority: 16 U.S.C. 1600-1614; 36 CFR 219.14.

Dated: May 16, 2008.
Rebecca Aus,
Forest Supervisor, Shoshone National Forest.

[FR Doc. E8-11499 Filed 5-22-08; 8:45 am]

BILLING CODE 3410-11-M